INTERNATIONAL TRADE COMMISSION

[Investigation Nos. 701-TA-450 and 731-TA-1122 (Final)]

Laminated Woven Sacks from China

Determinations

On the basis of the record ¹ developed in the subject investigations, the United States International Trade Commission (Commission) determines, pursuant to sections 705(b) and 735(b) of the Tariff Act of 1930 (19 U.S.C. 1671d(b) and 1673d(b)) (the Act), that an industry in the United States is materially injured by reason of imports from China of laminated woven sacks, provided for in subheading 6305.33.00 of the Harmonized Tariff Schedule of the United States, that have been found by the Department of Commerce (Commerce) to be subsidized by the Government of China and sold in the United States at less than fair value (LTFV).²

¹ The record is defined in sec. 207.2(f) of the Commission's Rules of Practice and Procedure (19 CFR 207.2(f)).

² The Commission also determined unanimously that critical circumstances do not exist with respect to those imports of the subject merchandise from China that were subject to affirmative critical circumstances determinations by Commerce.

Background

The Commission instituted these investigations effective June 28, 2007, following receipt of a petition filed with the Commission and Commerce by the Laminated Woven Sacks Committee, an ad hoc committee composed of five U.S. producers of laminated woven sacks. Members of the Laminated Woven Sacks Committee are: (1) Bancroft Bag, Inc. of West Monroe, LA; (2) Coating Excellence International, LLC of Wrightstown, WI; (3) Hood Packaging Corp. of Madison, MS; (4) Mid-America Packaging, LLC of Twinsburg, OH; and (5) Polytex Fibers Corp. of Houston, TX. The final phase of the investigations was scheduled by the Commission following notification of preliminary determinations by Commerce that imports of laminated woven sacks from China were being subsidized within the meaning of section 703(b) of the Act (19 U.S.C. 1671b(b)) and being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of February 15, 2008 (73 FR 8902). The hearing was held in Washington, DC, on June 17, 2008, and all persons who requested the opportunity were permitted to appear in person or by counsel.

The Commission transmitted its determinations in these investigations to the Secretary of Commerce on July 30, 2008. The views of the Commission are contained in USITC Publication 4025 (July 2008), entitled Laminated Woven Sacks from China: Investigation Nos. 701-TA-450 and 731-TA-1122 (Final).

By order of the Commission.
Issued: July 30, 2008,
Marilyn R. Abbott,
Secretary to the Commission.

[FR Doc. E8-17867 Filed 8-4-08; 8:45 am]

BILLING CODE 7020-02-P